DEPARTMENT OF THE INTERIOR

National Park Service

National Register of Historic Places; Notification of Pending Nominations and Related Actions

Nominations for the following properties being considered for listing or related actions in the National Register were received by the National Park Service before April 2, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, (202) 371-6447. Written or faxed comments should be submitted by May 9, 2005.

Carol D. Shull,
Keeper of the National Register of Historic Places.

ARIZONA

Gila County

Strawberry School, 9318 Fossil Creek Rd., approx. 1.5 mi. W of AZ 87/260, Strawberry, 05000422

Maricopa County

Buckhorn Baths Motel, 5900 E. Main St., Mesa, 05000421

GEORGIA

Fulton County

Virginia—Highland Historic District, Roughly bounded by Amsterdam Ave., Rosedale Rd., Ponce de Leon Ave., and the Norfolk Southern Railroad, Atlanta, 05000402

Winship, George, Jr., and Emily, House, 2626 Brookwood Dr., NE, Atlanta, 05000404

Muscogee County

Wynn's Hill—Overlook—Oak Circle Historic District, Roughly bounded by Bradley Rd., Buena Vista Rd., Overlook Ave., Crest Dr., and Oakview Ave., Columbus, 05000403

Whitfield County

Strickland, A.D., Store, 1385 Dawnville Rd., Dalton, 05000405

LOUISIANA

Iberville Parish

Supple's, J., Sons Mercantile Company, Lts., 29830 LA 405, Bayou Goula, 05000406

St. James Parish

Lambert House, (Louisiana's French Creole Architecture MPS), 5669 LA 44, Convent, 05000407

MONTANA

Lewis and Clark County

Armitage, Joshua and Martha, House, 1117 East Broadway, Helena, 05000408

NEW MEXICO

Sierra County

Hot Springs Bathhouse and Commerical Historic District in Truth or Consequences, Roughly bounded by Post, Ban Patten, Pershing and Main Sts., Truth or Consequences, 05000409

PENNSYLVANIA

Allegheny County

Armstrong Cork Company, 23rd and Railroad Sts., Pittsburgh, 05000413

Elmridge, Beaver Rd. at Camp Meeting Rd., Leetsdale, 05000412

Longue Vue Club and Golf Course, 400 Longue Vue Dr., Verona, Penn Hills Township, 05000414

Sperling Building, 1007-1013 Penn Ave., Wilkinsburh, 05000410

Bucks County

Yardley Historic District, Roughly bounded by Main St., Afton Ave., Letchworth Ave., Canal St., S. Edgewater Ave., and Delaware Canal, Yardley, 05000417

Montgomery County

Stanley, 8500 Pine Rd., Rockledge, Abington Township, 05000415

Philadelphia County

Walnut Park Plaza Hotel, 6232-6250 Walnut St., Philadelphia, 05000416

Somerset County

New Colonial Hotel, 319 Main St., Meyersdale, 05000411

TEXAS

Dallas County

Dallas National Bank, 1530 Main and 1511 Commerce St., Dallas, 05000419

Gillespie County

Pecan Creek School, 3410 Pecan Creek Rd., Fredericksburg, 05000418

VERMONT

Windham County

Wyatt, Arthur D. and Emma J., House, 125 Putney Rd., Brattleboro, 05000420

WISCONSIN

Green Lake County

Nathan Strong Park Historic District, Roughly bounded by N. Wisconsin, E. Moore, N. Swetting and E. Huron Sts., Berlin, 05000423

[FR Doc. 05-8048 Filed 4-21-05; 8:45 am]

BILLING CODE 4312-51-P